DEPARTMENT OF THE TREASURY

Office of the Comptroller of the Currency

[OCC Charter Number 706624]

New Buffalo Savings Bank, New Buffalo, Michigan; Approval of Conversion Application

Notice is hereby given that on August 12, 2015, the Office of the Comptroller of the Currency (OCC) approved the application of New Buffalo Savings Bank, New Buffalo, Michigan, to convert to the stock form of organization. Copies of the application are available for inspection on the OCC Web site at the FOIA Electronic Reading Room https://foia-pal.occ.gov/palMain.aspx. If you have any questions, please call OCC Licensing Activities at (202) 649-6260.

Dated: August 12, 2015.
By the Office of the Comptroller of the Currency.
Stephen A. Lybarger,
Deputy Comptroller for Licensing.

[FR Doc. 2015-20761 Filed 8-20-15; 8:45 am]

BILLING CODE 4810-33-P